DEPARTMENT OF THE INTERIOR

Bureau of Land Management

[LLCADO6800 L17110000 PM0000]

Notice of Reestablishment of the Santa Rosa and San Jacinto Mountains National Monument Advisory Committee

AGENCY: Bureau of Land Management, Interior.

ACTION: Notice.

SUMMARY: This notice is published in accordance with Section 9(a)(2) of the Federal Advisory Committee Act of 1972. Notice is hereby given that the Secretary of the Interior and the Secretary of Agriculture (Secretaries) have reestablished the charter of the Santa Rosa and San Jacinto Mountains National Monument Advisory Committee.

FOR FURTHER INFORMATION CONTACT: Allison Sandoval, Legislative Affairs and Correspondence (620), Bureau of Land Management, 1620 L Street, NW., MS-LS-401, Washington, DC 20036, telephone (202) 912-7434.

SUPPLEMENTARY INFORMATION: The purpose of the Committee is to advise the Secretaries with respect to the preparation and implementation of the Santa Rosa and San Jacinto National Monument Management Plan on lands administered by the Bureau of Land Management (Interior) and the U.S. Forest Service (Agriculture).

Certification Statement

I hereby certify that the reestablishment of the Santa Rosa and San Jacinto Mountains National Monument Advisory Committee is necessary and in the public interest in connection with the responsibilities of the Secretary of the Interior to manage the lands, resources, and facilities administered by the BLM and of the Secretary of Agriculture for National Forest System lands.

Ken Salazar,
Secretary of the Interior.

[FR Doc. 2010-14642 Filed 6-16-10; 8:45 am]

BILLING CODE 4310-11-P